DEPARTMENT OF COMMERCE

International Trade Administration

[A-201-835]

Lemon Juice from Mexico: Preliminary Results of Full Sunset Review of the Suspended Antidumping Duty Investigation

AGENCY: Import Administration, International Trade Administration, Department of Commerce.

DATES: Effective December 26, 2012.

SUMMARY: On August 1, 2012, the Department of Commerce (“Department”) published in the Federal Register the notice of initiation of the sunset review of the suspended antidumping duty investigation on lemon juice from Mexico. On September 19, 2012, based on the adequacy of responses from both the domestic and the respondent interested parties, the Department determined to conduct a full sunset review as provided for in section 751(c)(5)(A) of the Act and in 19 CFR 351.218(e)(2). As a result of its analysis, the Department preliminarily finds that termination of the suspended antidumping duty investigation would be likely to lead to continuation or recurrence of dumping at the margins indicated in the “Preliminary Results of Review” section of this notice.

FOR FURTHER INFORMATION CONTACT: Maureen Price or Sally C. Gannon, Bilateral Agreements Unit, Import Administration, International Trade Administration, U.S. Department of Commerce, 14th Street and Constitution Avenue NW., Washington, DC 20230; telephone: (202) 482-4271 or (202) 482-0162, respectively.

SUPPLEMENTARY INFORMATION:

Background

On August 1, 2012, the Department initiated a sunset review of the suspended antidumping duty investigation on lemon juice from Mexico, pursuant to section 751(c) of the Tariff Act of 1930, as amended (“the Act”).¹ The Department received a notice of intent to participate from the domestic interested party, Ventura Coastal, LLC (“Ventura”), a joint venture between Ventura Coastal and Sunkist Growers, Inc., the petitioner in the underlying investigation, within the deadline specified in 19 CFR 351.218(d)(1)(i). Ventura claimed interested party status under section 771(9)(C) of the Act as a U.S. producer of the subject merchandise. On August 31, 2012, the Department received complete substantive responses from the domestic interested party and the respondent interested parties, The Coca-Cola Company and its subsidiary, The Coca-Cola Export Corporation, Mexico Branch (collectively, “TCCC”) and Procimart Citrus (“Procimart”), within the 30-day deadline specified in 19 CFR 351.218(d)(3)(i). On September 7, 2012, the Department received timely filed rebuttals to the substantive responses from Ventura and Procimart. As a result, pursuant to 19 CFR 351.218(e)(2), the Department determined to conduct a full sunset review.²

¹ See Initiation of Five-Year (“Sunset”) Review and Correction, 77 FR 45589 (August 1, 2012).

² See Memorandum to Sally C. Gannon, Director for Bilateral Agreements, Office of Policy, on “Sunset Review of the Agreement Suspending the Antidumping Investigation of Lemon Juice from Mexico: Adequacy Determination” dated September 19, 2012.

Scope of the Suspended Investigation

The merchandise covered by the suspended investigation includes certain lemon juice for further manufacture, with or without addition of preservatives, sugar, or other sweeteners, regardless of the GPL (grams per liter of citric acid) level of concentration, brix level, brix/acid ratio, pulp content, clarity, grade, horticulture method (e.g., organic or not), processed form (e.g., frozen or not-from-concentrate), FDA standard of identity, the size of the container in which packed, or the method of packing.

Excluded from the scope are: (1) Lemon juice at any level of concentration packed in retail-sized containers ready for sale to consumers, typically at a level of concentration of 48 GPL; and (2) beverage products such as lemonade that typically contain 20% or less lemon juice as an ingredient.

Lemon juice is classifiable under subheadings 2009.39.6020, 2009.31.6020, 2009.31.4000, 2009.31.6040, and 2009.39.6040 of the Harmonized Tariff Schedule of the United States (HTSUS). While HTSUS subheadings are provided for convenience and customs purposes, our written description of the scope of this Agreement is dispositive.

Analysis of Comments Received

All issues raised in this review are addressed in the Issues and Decision Memorandum (“Decision Memorandum”) from Lynn Fischer Fox, Deputy Assistant Secretary for Policy & Negotiations, to Paul Piquado, Assistant Secretary for Import Administration, dated concurrently with this notice, which is hereby adopted by this notice. The issues discussed in the Decision Memorandum include the likelihood of continuation or recurrence of dumping, the magnitude of the margin of dumping likely to prevail if the suspended investigation were terminated, and the standing of Ventura as the domestic interested party. Parties can find a complete discussion of all issues raised in this sunset review and the corresponding recommendations in this public memorandum, which is on file electronically via Import Administration's Antidumping and Countervailing Duty Centralized Electronic Service System (“IA ACCESS”). Access to IA ACCESS is available to registered users at http://iaaccess.trade.gov/ and in the Central Records Unit (“CRU”), Room 7046 of the main Department of Commerce building. In addition, a complete version of the Decision Memorandum can be accessed directly on the Internet at http://ia.ita.doc.gov/frn. The paper copy and electronic version of the Decision Memorandum are identical in content.

Preliminary Results of Review

Pursuant to sections 751(c)(1) and (3) of the Act, the Department preliminarily determines that termination of the suspended antidumping duty investigation on lemon juice from Mexico would likely lead to continuation or recurrence of dumping at the following weighted-average percentage margins:

Manufacturer/Exporter CHED H="1">Weighted-Average: Margin (percent)
The Coca-Cola Export Corporation, Mexico Branch | 146.10
Citrotam Internacional S.P.R. de R.L.(Citrotam)/Productos Naturales de Citricos (Pronacit) | 205.37
All Others | 146.10

Interested parties may submit case briefs no later than 50 days after the date of publication of the preliminary results of this full sunset review, in accordance with 19 CFR 51.309(c)(1)(i). Any interested party may request a hearing within 30 days of publication of this notice in accordance with 19 CFR 351.310(c). Rebuttal briefs, which must be limited to issues raised in the case briefs, may be filed not later than the five days after the time limit for filing case briefs in accordance with 19 CFR 351.309(d).

A hearing, if requested, will be held two days after the date the rebuttal briefs are due. The Department will issue a notice of final results of this full sunset review, which will include the results of its analysis of issues raised in any such comments, no later than March 29, 2013.

The Department is issuing and publishing the results and notice in accordance with sections 751(c), 752(c), and 777(i)(1) of the Act.

Dated: December 19, 2012.
Paul Piquado,
Assistant Secretary for Import Administration.

[FR Doc. 2012-31101 Filed 12-21-12; 4:15 pm]

BILLING CODE 3510-DS-P